DEPARTMENT OF JUSTICE

Antitrust Division

Notice Pursuant to the National Cooperative Research and Production Act of 1993—Long Term Implantable Glucose Monitor

Notice is hereby given that, on August 19, 2003, pursuant to Section 6(a) of the National Cooperative Research and Production Act of 1993, 15 U.S.C. 4301 et seq. (“the Act”), Animas Corporation has filed written notifications simultaneously with the Attorney General and the Federal Trade Commission on behalf of the Long Term Implantable Glucose Monitor venture disclosing changes in its membership status. The notifications were filed for the purpose of extending the Act's provisions limiting the recovery of antitrust plaintiffs to actual damages under specified circumstances. Specifically, Innovative Photonic Solutions, Monmouth Junction, NJ has been added as a party to this venture.

No other changes have been made in either the membership or planned activity of the group research project. Membership in this group research project remains open, and Animas Corporation intends to file additional written notification disclosing all changes in membership.

On September 27, 2001, Animas Corporation filed its original notification pursuant to Section 6(a) of the Act. The Department of Justice published a notice in the Federal Register pursuant to Section 6(b) of the Act on January 22, 2002 (67 FR 2909-03).

The last notification was filed with the Department on June 3, 2003. A notice was published in the Federal Register pursuant to Section 6(b) of the Act on June 23, 2003 (68 FR 37176).

Dorothy B. Fountain,
Deputy Director of Operations, Antitrust Division.

[FR Doc. 03-22761 Filed 9-5-03; 8:45 am]

BILLING CODE 4410-11-M